OFFICE OF THE UNITED STATES TRADE REPRESENTATIVE

Notice of Effective Date for Goods of Mexico for Certain Modifications of the NAFTA Rules of Origin

AGENCY: Office of the United States Trade Representative.

ACTION: Notice of effective date.

SUMMARY: In Proclamation 8111 of February 28, 2007, the President modified the rules of origin for certain goods of Mexico under the North American Free Trade Agreement (the “NAFTA”) incorporated in the Harmonized Tariff Schedule of the United States (the “HTS”). The proclamation stated that the modifications would be effective on the date to be announced in the Federal Register by the United States Trade Representative (the “USTR”) and would apply to goods of Mexico that are entered, or withdrawn from warehouse for consumption, on or after the date indicated in the proclamation. The purpose of this notice is to announce that the effective date for the modifications is July 30, 2007. The changes were printed in the Federal Register of March 6, 2007 (72 FR 10028).

FOR FURTHER INFORMATION CONTACT: For further information, please contact Caroyl Miller, Deputy Special Textile Negotiator, Office of the United States Trade Representative, 600 17th Street, NW., Washington, DC 20508, fax number, (202) 395-5639.

SUPPLEMENTARY INFORMATION: Presidential Proclamation 6641 of December 15, 1993 implemented the North American Free Trade Agreement (the “NAFTA”) with respect to the United States and, pursuant to the North American Free Trade Agreement Implementation Act (Pub. L. 103-182) (the “NAFTA Implementation Act”), incorporated in the Harmonized Tariff Schedule of the United States (the “HTS”) the tariff modifications and rules of origin necessary or appropriate to carry out the NAFTA. Section 202 of the NAFTA Implementation Act (19 U.S.C. 3332) provides rules for determining whether goods imported into the United States originate in the territory of a NAFTA party and thus are eligible for the tariff and other treatment contemplated under the NAFTA. Section 202(q) of the NAFTA Implementation Act (19 U.S.C. 3332(q)) authorizes the President to proclaim, as a part of the HTS, the rules of origin set out in the NAFTA and to proclaim modifications to such previously proclaimed rules of origin, subject to the consultation and layover requirements of section 103(a) of the NAFTA Implementation Act (19 U.S.C. 3313(a)).

The President determined that the modifications to the HTS contained in Proclamation 8811 pursuant to sections 201 and 202 of the NAFTA Implementation Act were appropriate and proclaimed such changes with respect to goods of Mexico entered, or withdrawn from warehouse for consumption, on or after the date indicated in the Annex to that Proclamation. The President decided that the effective date of the modifications shall be announced by the United States Trade Representative (USTR).

On March 15, 2007, the government of Mexico obtained the necessary authorization to implement the rule of origin changes with respect to goods of the United States. Subsequently, officials from the government of Mexico and the government of the United States agreed to implement these changes with respect to each other's eligible goods, effective July 30, 2007.

Scott D. Quesenberry,
Special Textile Negotiator.

[FR Doc. E7-15034 Filed 8-1-07; 8:45 am]

BILLING CODE 3190-W7-P